DEPARTMENT OF TRANSPORTATION

Maritime Administration

[Docket No. DOT-MARAD-2025-0861]

Request for Comments on the Renewal of a Previously Approved Information Collection: Determination of Fair and Reasonable Rates for Carriage of Agriculture Cargoes on U.S.-Flag Commercial Vessels—46 CFR Part 382

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0514 (Determination of Fair and Reasonable Rates for Carriage of Agriculture Cargoes on U.S.-Flag Commercial Vessels—46 CFR Part 382) is used to determine fair and reasonable guideline rates for the carriage of preference cargoes on U.S.-flag commercial vessels. Since the last renewal, the public burden decreased due to fewer respondents. MARAD is required to publish this notice in the Federal Register to obtain comments from the public and affected agencies.

DATES: Comments must be submitted on or before January 27, 2026.

ADDRESSES: You may submit comments identified by Docket No. MARAD-2025-0861] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Albert Bratton, 202-366-5769, Office of Business Finance, Maritime Administration, U.S. Department of Transportation, 1200 New Jersey Avenue SE, Washington, DC 20590, Email: Albert.Bratton@dot.gov.

SUPPLEMENTARY INFORMATION:

Title: Determination of Fair and Reasonable Rates for Carriage of Agriculture Cargoes on U.S.-Flag Commercial Vessels—46 CFR Part 382.

OMB Control Number: 2133-0514.

Type of Request: Extension without change of a previously approved information collection.

Abstract: This collection requires U.S.-flag commercial vessel owners and operators to submit both operating and capital costs to MARAD annually.

Respondents: U.S. citizens who own and operate U.S.-flag vessels.

Affected Public: Business or other for-profit.

Estimated Number of Respondents: 22.

Estimated Number of Responses: 26.

Estimated Hours per Response: 1-10 hours.

Annual Estimated Total Annual Burden Hours: 134.

Frequency of Response: Annually.

(Authority: The Paperwork Reduction Act of 1995; 44 U.S.C. Chapter 35, as amended; and 49 CFR 1.49.)

By Order of the Maritime Administration.
T. Mitchell Hudson, Jr.,
Secretary, Maritime Administration.

[FR Doc. 2025-21427 Filed 11-26-25; 8:45 am]

BILLING CODE 4910-81-P